DEPARTMENT OF AGRICULTURE

Submission for OMB Review; Notice of Request for Emergency Approval

In compliance with the requirements of the Paperwork Reduction Act of 1995 (PRA), the Department of Agriculture (USDA) has submitted a request to the Office of Management and Budget (OMB) for a six-month emergency approval of the following information collections: ICR 0596-NEW, Infrastructure Investment and Jobs Act Financial Assistance to Facilities that Purchase and Process Byproducts for Ecosystem Restoration (CFDA 10.725) Wood Products Infrastructure Assistance (WPIA) and the Temporary Bridge Funding Opportunity (TBFO) Program. The requested approval would enable the implementation of these programs to begin.

Forest Service

Title: Infrastructure Investment and Jobs Act Financial Assistance to Facilities that Purchase and Process Byproducts for Ecosystem Restoration (CFDA 10.725) Wood Products Infrastructure Assistance (WPIA).

OMB Control Number: 0596-NEW.

Summary of Collection: USDA Forest Service is delivering the Wood Products Infrastructure Assistance (WPIA) as part of the Bipartisan Infrastructure Law. Section 40804(b)3 of the Infrastructure Investment and Jobs Act Public Law 117-58 (11/15/2021) directs the USDA Forest Service to provide financial assistance to an entity seeking to establish, reopen, expand, or improve a sawmill or other wood processing facility in close proximity to a unit of federal or Indian land that has been identified as high or very high priority for ecological restoration. According to 2 CFR part 200 and Forest Service Handbook 1509.11, chapter 20, there is certain narrative and budget information required for the Agency to determine if the project meets the legislative requirements and if the costs are reasonable, allocable, allowable, and necessary for the project. In particular, collection of information is necessary to ascertain if applicants seeking financial assistance do in fact operate facilities in close proximity to a unit of federal or Indian land that has been identified as high or very high priority for ecological restoration.

Forest Service

Title: Temporary Bridge Funding Opportunity (TBFO) Program.

OMB Control Number: 0596-NEW.

Summary of Collection: USDA Forest Service is delivering the Temporary Bridge Funding Opportunity (TBFO) Program as part of the Bipartisan Infrastructure Law. Section 40804(b)5 of the Infrastructure Investment and Jobs Act Public Law 117-58 (11/15/2021) directs the Forest Service to provide funding for States and Indian Tribes to establish rental programs for portable skidder bridges, bridge mats, or other temporary water crossing structures, to minimize stream bed disturbance on non-Federal land and Federal land. According to 2 CFR part 200 and Forest Service Handbook 1509.11, chapter 20, prescribes administrative requirements and processes applicable to all Forest Service domestic and international Federal Financial Assistance awards to State and local governments, institutions of higher education, hospitals, private profit and nonprofit organizations, individuals, and foreign recipients. In particular, collection of information is necessary to ascertain the required needs of applicants to initiate a temporary bridge program to protect water resources and reduce water quality degradation during forestry related operations requiring temporary water resource crossings.

Levi S. Harrell,
Departmental Information Collection Clearance Officer.

[FR Doc. 2022-22641 Filed 10-18-22; 8:45 am]

BILLING CODE 3411-15-P